FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

ADS Air & Ocean Freight, LLC (NVO), 11155 NW 33rd Street, Doral, FL 33172, Officers: Julieth X. Zapata, Operations Coordinator/Secretary, (Qualifying Individual), Ana M. Mazza, Manager Member, Application Type: New NVO License.

Atlas Latin Cargo LLC (NVO & OFF), 5065 NW 74th Avenue, Miami, FL 33166, Officers: Alfredo Peraza, Jr., Manager, (Qualifying Individual), Gil De Freitas, Member Manager, Application Type: New NVO & OFF License.

Besco Shippers, Inc. (NVO), 5425 Baltimore Avenue, Philadelphia, PA 19143, Officers: Ludlow Harding, President, (Qualifying Individual), Marjorie Harding, Vice President, Application Type: New NVO License.

Caribbean Shipping Solutions LLC (NVO), 689 Main Street, Suite H, Stone Mountain, GA 30083, Officers: Paul S. Philip, Vice President of Shipping Operations, (Qualifying Individual), Joyce C. Philip, President, Application Type: New NVO License.

CCE, LLC dba Classic Car Export (OFF), 10307 W. 127th Terrace, #190, Overland Park, KS 66213, Officer: Steven A. Sharpe, Manager, (Qualifying Individual), Application Type: New OFF License.

CTS International Logistic, Inc. dba Cargo, Transport System (NVO), 1050 Sainte-Elisabeth, Suite #2, Montreal, Quebec Canada, Officers: Matthew Mirizzi, President, (Qualifying Individual), Mike Easton, Vice President, Application Type: New NVO License.

Dsecargonet USA, Inc (NVO), 3625 Del Amo Blvd., #275, Torrance, CA 90503, Officers: Je Ha, Secretary, (Qualifying Individual), Myung K. Chai, President/CEO, Application Type: QI Change.

Eurotrans International Inc. (NVO), 1309 Temple Grove Court, Winter Park, FL 32789, Officer: Brian Lux, President, (Qualifying Individual), Application Type: New NVO License.

HDS Freight Services of California, Inc. dba, HDS Freight Services (OFF), 15 W. Mill Street, #203, Bayfield, CO 81122, Officers: James Tencza, President, (Qualifying Individual), Jennifer Tencza, Secretary/Treasurer, Application Type: New OFF License.

Interlink Cargo Logistics, LLC (NVO & OFF), 76 Loy Avenue, Riverdale, NJ 07457, Officer: Kris K. Kim, Member, (Qualifying Individual), Application Type: New NVO & OFF License.

International Partners, LLC (OFF), 7351 Lockport Place, Lorton, VA 22079, Officer: Edward F. Erskine, Jr, President, (Qualifying Individual), Application Type: New OFF License.

Joma Logistics Inc. (NVO & OFF), 12604 Canterbury Drive, Plainfield, IL 60585, Officers: Nie Xu, Director/Secretary, (Qualifying Individual), Kai Tu, President, Application Type: New NVO & OFF License.

Neutral Sea, LLC (NVO & OFF), 8400 NW 25 Street, #100, Miami, FL 33122, Officers: German Serrano, Executive Vice President, (Qualifying Individual), Alexander Tellez, CEO/Manager, Application Type: Add OFF Service.

Original U.S.A. Group Corp. (NVO), 145-30 156th Street, #202, Jamaica, NY 11434, Officer: Chuan Yu, President/Secretary/Treasurer, (Qualifying Individual), Application Type: New NVO License.

Radiant Overseas Express, Inc. (NVO), 9333 Elm Vista Drive, #9, Downey, CA 90242, Officer: Cynthia Choi, CEO/CFO/Secretary, (Qualifying Individual), Application Type: New NVO License.

Sentry Household Shipping, Inc. dba Sentry International, dba Suddath International (NVO), 815 S. Main Street, Jacksonville, FL 32207, Officers: Stephen F. Crooks, President, (Qualifying Individual), Joanna K. Aman, Assistant Secretary, Application Type: Trade Name Change.

Steele Logistics, LLC (NVO), 10722 La Cienega Blvd., Inglewood, CA 90304, Officer: Rene N. Steele, Member, (Qualifying Individual), Application Type: New NVO License.

Universal Cargo Management, Inc. (NVO & OFF), 10825 Washington Blvd., Culver City, CA 90232, Officers: Devin Burke, CEO, (Qualifying Individual), Shirley Burke, President, Application Type: Add OFF Service.

Yes Logistics Corporation (NVO & OFF), 3675 E. Huntington Drive, Suite 210, Pasadena, CA 91107, Officers: John S. Hsi, Assistant Vice President, (Qualifying Individual), Vincent Huang, CFO, Application Type: QI Change.

Dated: January 6, 2012.
Rachel E. Dickon,
Assistant Secretary.

[FR Doc. 2012-417 Filed 1-11-12; 8:45 am]

BILLING CODE 6730-01-P